DEPARTMENT OF AGRICULTURE

Forest Service

Newspapers Used for Publication of Legal Notices by the Intermountain Region; Utah, Idaho, Nevada, and Wyoming

AGENCY: Forest Service, USDA.

ACTION: Notice.

SUMMARY: This notice lists the newspapers that will be used by the ranger districts, forests and regional office of the Intermountain Region to publish legal notices required under 36 CFR parts 215 and 217. The intended effect of this action is to inform interested members of the public which newspapers the Forest Service will use to publish notices of proposed actions and notices of decision. This will provide the public with constructive notice of Forest Service proposals and decisions, provide information on the procedures to comment or appeal, and establish the date that the Forest Service will use to determine if comments or appeals were timely.

DATES: Publication of legal notices in the listed newspapers will begin on or after April 1, 2003. The list of newspapers will remain in effect until October 1, 2003, when another notice will be published in the Federal Register.

FOR FURTHER INFORMATION CONTACT: Priscilla McLain, Regional Appeals Coordinator, Intermountain Region, 324 25th Street, Ogden, UT 84401, and phone (801) 625-5146.

SUPPLEMENTARY INFORMATION: The administrative procedures at 36 CFR parts 215 and 217 require the Forest Service to publish notices in a newspaper of general circulation. The content of the notices is specified in 36 CFR parts 215 and 217. In general, the notices will identify: the decision or project, by title or subject matter; the name and title of the official making the decision; how to obtain additional information; and where and how to file comments or appeals. The date the notice is published will be used to establish the official date for the beginning of the comment or appeal period. The newspapers to be used are as follows:

Regional Forester, Intermountain Region

For decisions made by the Regional Forester affecting National Forests in Idaho:

The Idaho Statesman, Boise, Idaho.

For decisions made by the Regional Forester affecting National Forests in Nevada:

The Reno Gazette-Journal, Reno, Nevada.

For decisions made by the Regional Forester affecting National Forests in Wyoming:

Casper Star-Tribune, Casper, Wyoming.

For decisions made by the Regional Forester affecting National Forests in Utah:

Salt Lake Tribune, Salt Lake City, Utah.

For the decisions made by the Regional Forester that affect all National Forests in the Intermountain Region.

Salt Lake Tribune, Salt Lake City, Utah.

Ashley National Forest

Ashley Forest Supervisor decisions:

Vernal Express, Vernal, Utah.

Duchesne District Ranger decisions:

Uinta Basin Standard, Roosevelt, Utah.

Flaming Gorge District Ranger for decisions affecting Wyoming:

Casper Star Tribune, Casper, Wyoming.

Flaming Gorge District Ranger for decisions affecting Utah:

Vernal Express, Vernal, Utah.

Roosevelt District Ranger decisions:

Uinta Basin Standard, Roosevelt, Utah.

Vernal District Ranger decisions:

Vernal Express, Vernal, Utah.

Boise National Forest

Boise Forest Supervisor decisions:

The Idaho Statesman, Boise, Idaho.

Cascade District Ranger decisions:

The Long Valley Advocate, Cascade, Idaho.

Emmett District Ranger decisions:

The Messenger-Index, Emmett, Idaho.

Idaho City District Ranger decisions:

The Idaho Statesman, Boise, Idaho.

Lowman District Ranger decisions:

The Idaho World, Garden Valley, Idaho.

Mountain Home District Ranger decisions:

The Idaho Statesman, Boise, Idaho.

Bridger-Teton National Forest

Bridger-Teton Forest Supervisor decisions:

Casper Star-Tribune, Casper, Wyoming.

Big Piney District Ranger decisions:

Casper Star-Tribune, Casper, Wyoming.

Buffalo District Ranger decisions:

Casper Star-Tribune, Casper, Wyoming.

Greys River District Ranger decisions:

Casper Star-Tribune, Casper, Wyoming.

Jackson District Ranger decisions:

Casper Star-Tribune, Casper, Wyoming.

Kemmerer District Ranger decisions:

Casper Star-Tribune, Casper, Wyoming.

Pinedale District Ranger decisions:

Casper Star-Tribune, Casper, Wyoming.

Caribou-Targhee National Forest

Caribou-Targhee Forest Supervisor decisions for the Caribou portion:

Idaho State Journal, Pocatello, Idaho.

Caribou-Targhee Forest Supervisor decisions for the Targhee portion:

The Post Register, Idaho Falls, Idaho.

Ashton District Ranger decisions:

The Post Register, Idaho Falls, Idaho.

Dubois District Ranger decisions:

The Post Register, Idaho Falls, Idaho.

Island Park District Ranger decisions:

The Post Register, Idaho Falls, Idaho.

Montpelier District Ranger decisions:

Idaho State Journal, Pocatello, Idaho.

Palisades District Ranger decisions:

The Post Register, Idaho Falls, Idaho.

Soda Springs District Ranger decisions:

Idaho State Journal, Pocatello, Idaho.

Teton Basin District Ranger decisions:

The Post Register, Idaho Falls, Idaho.

Westside District Ranger decisions:

Idaho State Journal, Pocatello, Idaho.

Dixie National Forest

Dixie Forest Supervisor decisions:

The Daily Spectrum, St. George, Utah.

Cedar City District Ranger decisions:

The Daily Spectrum, St. George, Utah.

Escalante District Ranger decisions:

The Daily Spectrum, St. George, Utah.

Pine Valley District Ranger decisions:

The Daily Spectrum, St. George, Utah.

Powell District Ranger decisions:

The Daily Spectrum, St. George, Utah.

Teasdale District Ranger decisions:

The Daily Spectrum, St. George, Utah.

Fishlake National Forest

Fishlake Forest Supervisor decisions:

Richard Reaper, Richfield, Utah.

Beaver District Ranger decisions:

Richfield Reaper, Richfield, Utah.

Fillmore District Ranger decisions:

Richfield Reaper, Richfield, Utah.

Loa District Ranger decisions:

Richfield Reaper, Richfield, Utah.

Richfield District Ranger decisions:

Richfield Reaper, Richfield, Utah.

Humboldt-Toiyabe National Forests

Humboldt-Toiyabe Forest Supervisor decisions for the Humboldt portion:

Elko Daily Free Press, Elko, Nevada.

Humboldt-Toiyabe Forest Supervisor decisions for the Toiyabe portion:

Reno Gazette-Journal, Reno, Nevada.

Austin District Ranger decisions:

Reno Gazette-Journal, Reno, Nevada.

Bridgeport District Ranger decisions:

The Review-Herald, Mammoth Lakes, California.

Carson District Ranger decisions:

Reno Gazette-Journal, Reno, Nevada.

Ely District Ranger decisions:

Ely Daily Times, Ely, Nevada.

Jarbidge District Ranger decisions:

Elko Daily Free Press, Elko, Nevada.

Mountain City District Ranger decisions:

Elko Daily Free Press, Elko, Nevada.

Ruby Mountains District Ranger decisions:

Elko Daily Free Press, Elko, Nevada.

Santa Rosa District Ranger decisions:

Humboldt Sun, Winnemucca, Nevada.

Spring Mountains National Recreation Area District Ranger decisions:

Las Vegas Review Journal, Las Vegas, Nevada.

Tonopah District Ranger decisions:

Tonopah Times Bonanza-Goldfield News, Tonopah, Nevada.

Manti-Lasal National Forest

Manti-LaSal Forest Supervisor decisions:

Sun Advocate, Price, Utah.

Ferron District Ranger decisions:

Emery County Progress, Castle Dale, Utah.

Moab District Ranger decisions:

The Times Independent, Moab, Utah.

Monticello District Ranger decisions:

The San Juan Record, Monticello, Utah.

Price District Ranger decisions:

Sun Advocate, Price, Utah.

Sanpete District Ranger decisions:

The Pyramid, Mt. Pleasant, Utah.

Payette National Forest

Payette Forest Supervisor decisions:

Idaho Statesman, Boise, Idaho.

Council District Ranger decisions:

Adam County Record, Council, Idaho.

Krassel District Ranger decisions:

Star News, McCall, Idaho.

McCall District Ranger decisions:

Star News, McCall, Idaho.

New Meadows, District Ranger decisions:

Star News, McCall, Idaho.

Weiser District Ranger decisions:

Signal American, Weiser, Idaho.

Salmon-Challis National Forests

Salmon-Challis Forest Supervisor decisions for the Salmon portion:

The Recorder-Herald, Salmon, Idaho.

Salmon-Challis Forest Supervisor decisions for the Challis portion:

The Challis Messenger, Challis, Idaho.

Challis District Ranger decisions:

The Challis Messenger, Challis, Idaho.

Leadore District Ranger decisions:

The Recorder-Herald, Salmon, Idaho.

Lost River District Ranger decisions:

The Challis Messenger, Challis, Idaho.

Middle Fork District Ranger decisions:

The Challis Messenger, Challis, Idaho.

North Fork District Ranger decisions:

The Recorder-Herald, Salmon, Idaho.

Salmon/Cobalt District Ranger decisions:

The Recorder-Herald, Salmon, Idaho.

Yankee Fork District Ranger decisions:

The Challis Messenger, Challis, Idaho.

Sawtooth National Forest

Sawtooth Forest Supervisor decisions:

The Times News, Twin Falls, Idaho.

Fairfield District Ranger decisions:

The Times News, Twin Falls, Idaho.

Ketchum District Ranger decisions:

Idaho Mountain Express, Ketchum, Idaho.

Minidoka District Ranger decisions:

The Times News, Twin Falls, Idaho.

Sawtooth National Recreation Area:

Challis Messenger, Challis, Idaho.

Uinta National Forest

Uinta Forest Supervisor decisions:

The Daily Herald, Provo, Utah.

Heber District Ranger decisions:

The Daily Herald, Provo, Utah.

Pleasant Grove District Ranger decisions:

The Daily Herald, Provo, Utah.

Spanish Fork District Ranger decisions:

The Daily Herald, Provo, Utah.

Wasatch-Cache National Forest

Wasatch-Cache Forest Supervisor decisions:

Salt Lake Tribune, Salt Lake City, Utah.

Evanston District Ranger decisions:

Uinta County Herald, Evanston, Wyoming.

Kamas District Ranger decisions:

Salt Lake Tribune, Salt Lake City, Utah.

Logan District Ranger decisions:

Logan Herald Journal, Logan, Utah.

Mountain View District Ranger decisions:

Uinta County Herald, Evanston, Wyoming.

Ogden District Ranger decisions:

Ogden Standard Examiner, Ogden, Utah.

Salt Lake District Ranger decisions:

Salt Lake Tribune, Salt Lake City, Utah.

Dated: April 3, 2003.
Jack G. Troyer,
Regional Forester.

[FR Doc. 03-8617 Filed 4-8-03; 8:45 am]

BILLING CODE 3410-11-M